DEPARTMENT OF ENERGY

Federal Energy Regulatory Commission

Combined Notice of Filings

Take notice that the Commission has received the following Natural Gas Pipeline Rate and Refund Report filings:

Filings Instituting Proceedings

Docket Numbers: PR25-68-000.

Applicants: Black Hills/Kansas Gas Utility Company, LLC.

Description: § 284.123 Rate Filing: BHKG Revised SOC and Statement of Rates to be effective 8/1/2025.

Filed Date: 8/29/25.

Accession Number: 20250829-5066.

Comment Date: 5 p.m. ET 9/19/25.

Docket Numbers: RP25-1106-000.

Applicants: Columbia Gulf Transmission, LLC.

Description: Compliance filing: CGT Cashout Report 2025 to be effective N/A.

Filed Date: 8/28/25.

Accession Number: 20250828-5156.

Comment Date: 5 p.m. ET 9/9/25.

Docket Numbers: RP25-1107-000.

Applicants: Tres Palacios Gas Storage LLC.

Description: § 4(d) Rate Filing: TPGS Credit OBA Modifications eff 10-1-25 to be effective 10/1/2025.

Filed Date: 8/28/25.

Accession Number: 20250828-5179.

Comment Date: 5 p.m. ET 9/9/25.

Docket Numbers: RP25-1108-000.

Applicants: Texas Eastern Transmission, LP.

Description: Compliance filing: 2025 Operational Entitlements Filing to be effective N/A.

Filed Date: 8/28/25.

Accession Number: 20250828-5184.

Comment Date: 5 p.m. ET 9/9/25.

Docket Numbers: RP25-1109-000.

Applicants: El Paso Natural Gas Company, L.L.C.

Description: § 4(d) Rate Filing: Negotiated Rate Agreement Update (Hartree Sep 25) to be effective 9/1/2025.

Filed Date: 8/28/25.

Accession Number: 20250828-5202.

Comment Date: 5 p.m. ET 9/9/25.

Docket Numbers: RP25-1110-000.

Applicants: Transcontinental Gas Pipe Line Company, LLC.

Description: § 4(d) Rate Filing: Initial Rate Filing—Alabama Georgia Connector to be effective 10/1/2025.

Filed Date: 8/28/25.

Accession Number: 20250828-5215.

Comment Date: 5 p.m. ET 9/9/25.

Docket Numbers: RP25-1111-000.

Applicants: Alliance Pipeline L.P.

Description: § 4(d) Rate Filing: Negotiated Rates—Releases 09-01-2025 to be effective 9/1/2025.

Filed Date: 8/29/25.

Accession Number: 20250829-5001.

Comment Date: 5 p.m. ET 9/10/25.

Docket Numbers: RP25-1112-000.

Applicants: Florida Gas Transmission Company, LLC.

Description: § 4(d) Rate Filing: Fuel Filing on 8-29-25 to be effective 10/1/2025.

Filed Date: 8/29/25.

Accession Number: 20250829-5005.

Comment Date: 5 p.m. ET 9/10/25.

Docket Numbers: RP25-1113-000.

Applicants: Equitrans, L.P.

Description: § 4(d) Rate Filing: Amended Negotiated Rate Agreements—10/1/2025 to be effective 10/1/2025.

Filed Date: 8/29/25.

Accession Number: 20250829-5006.

Comment Date: 5 p.m. ET 9/10/25.

Docket Numbers: RP25-1114-000.

Applicants: WBI Energy Transmission, Inc.

Description: § 4(d) Rate Filing: 2025 Semi-Annual Fuel & Electric Power Reimbursement Adjustment to be effective 10/1/2025.

Filed Date: 8/29/25.

Accession Number: 20250829-5038.

Comment Date: 5 p.m. ET 9/10/25.

Docket Numbers: RP25-1115-000.

Applicants: Equitrans, L.P.

Description: § 4(d) Rate Filing: Remove Expired Negotiated Rate Agreements—10/1/2025 to be effective 10/1/2025.

Filed Date: 8/29/25.

Accession Number: 20250829-5043.

Comment Date: 5 p.m. ET 9/10/25.

Docket Numbers: RP25-1116-000.

Applicants: Southern Natural Gas Company, L.L.C.

Description: § 4(d) Rate Filing: SNG Winter Period Fuel Rate Update Filing to be effective 10/1/2025.

Filed Date: 8/29/25.

Accession Number: 20250829-5053.

Comment Date: 5 p.m. ET 9/10/25.

Docket Numbers: RP25-1117-000.

Applicants: Tennessee Gas Pipeline Company, L.L.C.

Description: § 4(d) Rate Filing: Revised DIC and Cashout Language to be effective 10/1/2025.

Filed Date: 8/29/25.

Accession Number: 20250829-5065.

Comment Date: 5 p.m. ET 9/10/25.

Docket Numbers: RP25-1118-000.

Applicants: Kern River Gas Transmission Company.

Description: § 4(d) Rate Filing: 2025 CRC Permanent Capacity TSA Replacement to be effective 10/1/2025.

Filed Date: 8/29/25.

Accession Number: 20250829-5074.

Comment Date: 5 p.m. ET 9/10/25.

Docket Numbers: RP25-1119-000.

Applicants: NEXUS Gas Transmission, LLC.

Description: § 4(d) Rate Filing: Negotiated Rates—Various Releases eff 9-1-2025 to be effective 9/1/2025.

Filed Date: 8/29/25.

Accession Number: 20250829-5076.

Comment Date: 5 p.m. ET 9/10/25.

Docket Numbers: RP25-1120-000.

Applicants: El Paso Natural Gas Company, L.L.C.

Description: § 4(d) Rate Filing: Electric Power Costs Filing to be effective 10/1/2025.

Filed Date: 8/29/25.

Accession Number: 20250829-5082.

Comment Date: 5 p.m. ET 9/10/25.

Docket Numbers: RP25-1121-000.

Applicants: Colorado Interstate Gas Company, L.L.C.

Description: Compliance filing: Operational Purchase and Sales Report 2025 to be effective N/A.

Filed Date: 8/29/25.

Accession Number: 20250829-5086.

Comment Date: 5 p.m. ET 9/10/25.

Docket Numbers: RP25-1122-000.

Applicants: Tennessee Gas Pipeline Company, L.L.C.

Description: § 4(d) Rate Filing: Negotiated Rate Agreements Filing—Sequent Energy Management LLC to be effective 9/1/2025.

Filed Date: 8/29/25.

Accession Number: 20250829-5089.

Comment Date: 5 p.m. ET 9/10/25.

Docket Numbers: RP25-1123-000.

Applicants: TransColorado Gas Transmission Company LLC.

Description: § 4(d) Rate Filing: TC Quarterly FL&U Update Aug. 2025 to be effective 10/1/2025.

Filed Date: 8/29/25.

Accession Number: 20250829-5104.

Comment Date: 5 p.m. ET 9/10/25.

Docket Numbers: RP25-1124-000.

Applicants: Northern Natural Gas Company.

Description: § 4(d) Rate Filing: 20250829 Negotiated Rate to be effective 9/1/2025.

Filed Date: 8/29/25.

Accession Number: 20250829-5153.

Comment Date: 5 p.m. ET 9/10/25.

Docket Numbers: RP25-1125-000.

Applicants: Colorado Interstate Gas Company, L.L.C.

Description: § 4(d) Rate Filing: Annual Fuel and LUF True-up Filing Aug 2025 to be effective 10/1/2025.

Filed Date: 8/29/25.

Accession Number: 20250829-5161.

Comment Date: 5 p.m. ET 9/10/25.

Docket Numbers: RP25-1127-000.

Applicants: Cameron Interstate Pipeline, LLC.

Description: § 4(d) Rate Filing: Filing of Negotiated Rate Agreement 8.29.25 to be effective 10/1/2025.

Filed Date: 8/29/25.

Accession Number: 20250829-5177.

Comment Date: 5 p.m. ET 9/10/25.

Docket Numbers: RP25-1128-000.

Applicants: Gillis Hub Pipeline, LLC.

Description: § 4(d) Rate Filing: Filing of Negotiated Rate Agreement 08.29.25 to be effective 10/1/2025.

Filed Date: 8/29/25.

Accession Number: 20250829-5188.

Comment Date: 5 p.m. ET 9/10/25.

Docket Numbers: RP25-1129-000.

Applicants: Equitrans, L.P.

Description: § 4(d) Rate Filing: Negotiated Rate Capacity Release Agreements—9/1/2025 to be effective 9/1/2025.

Filed Date: 9/2/25.

Accession Number: 20250902-5046.

Comment Date: 5 p.m. ET 9/15/25.

Docket Numbers: RP25-1130-000.

Applicants: Mountain Valley Pipeline, LLC.

Description: § 4(d) Rate Filing: Negotiated Rate Capacity Release Agreements—9/1/2025 to be effective 9/1/2025.

Filed Date: 9/2/25.

Accession Number: 20250902-5057.

Comment Date: 5 p.m. ET 9/15/25.

Docket Numbers: RP25-1131-000.

Applicants: Transwestern Pipeline Company, LLC.

Description: § 4(d) Rate Filing: Housekeeping Filing on 9-2-25 to be effective 10/2/2025.

Filed Date: 9/2/25.

Accession Number: 20250902-5060.

Comment Date: 5 p.m. ET 9/15/25.

Docket Numbers: RP25-1132-000.

Applicants: Transwestern Pipeline Company, LLC.

Description: § 4(d) Rate Filing: Housekeeping Filing on 9-2-25 (Volume 1-A) to be effective 10/2/2025.

Filed Date: 9/2/25.

Accession Number: 20250902-5064.

Comment Date: 5 p.m. ET 9/15/25.

Docket Numbers: RP25-1133-000.

Applicants: Algonquin Gas Transmission, LLC.

Description: § 4(d) Rate Filing: Negotiated Rates—Various Releases eff 9-1-2025 to be effective 9/1/2025.

Filed Date: 9/2/25.

Accession Number: 20250902-5077.

Comment Date: 5 p.m. ET 9/15/25.

Docket Numbers: RP25-1134-000.

Applicants: Rover Pipeline LLC.

Description: § 4(d) Rate Filing: Summary of Negotiated Rate Capacity Release Agreements 9-2-2025 to be effective 9/1/2025.

Filed Date: 9/2/25.

Accession Number: 20250902-5088.

Comment Date: 5 p.m. ET 9/15/25.

Docket Numbers: RP25-1135-000.

Applicants: Maritimes & Northeast Pipeline, L.L.C.

Description: § 4(d) Rate Filing: Negotiated Rates—Northern to to NRG Bus Mktg—eff 9-1-25 to be effective 9/1/2025.

Filed Date: 9/2/25.

Accession Number: 20250902-5090.

Comment Date: 5 p.m. ET 9/15/25.

Docket Numbers: RP25-1136-000.

Applicants: El Paso Natural Gas Company, L.L.C.

Description: § 4(d) Rate Filing: Negotiated Rate Agreement Update (Sempra Sept 3 2025) to be effective 9/3/2025.

Filed Date: 9/2/25.

Accession Number: 20250902-5092.

Comment Date: 5 p.m. ET 9/15/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP11-2473-000.

Applicants: Gulf South Pipeline Company, LP.

Description: Refund Report: 2025 CICO Filing to be effective N/A.

Filed Date: 8/29/25.

Accession Number: 20250829-5077.

Comment Date: 5 p.m. ET 9/10/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 2, 2025.
Carlos D. Clay,
Deputy Secretary.

[FR Doc. 2025-17022 Filed 9-4-25; 8:45 am]

BILLING CODE 6717-01-P